DEPARTMENT OF COMMERCE

International Trade Administration

[C-533-063]

Certain Iron-Metal Castings From India: Amended Final Results of Countervailing Duty Administrative Review in Accordance With Decision Upon Remand

AGENCY: Import Administration, International Trade Administration, Department of Commerce.

ACTION: Notice of amendment to final results of countervailing duty administrative review.

SUMMARY: Pursuant to remand instructions by the Court of International Trade (CIT), the Department has recalculated the countervailing duty rates for the 1991 administrative review of the countervailing duty order on certain iron-metal castings from India. The final countervailing duty rates for this administrative review period are listed below in the Final Results of Review section of this notice.

EFFECTIVE DATE: May 11, 2001.

FOR FURTHER INFORMATION CONTACT: Robert Copyak, AD/CVD Enforcement Office VI, Group II, Import Administration, International Trade Administration, U.S. Department of Commerce, 14th Street and Constitution Avenue, NW., Washington, DC 20230; telephone: (202) 482-2786.

SUPPLEMENTARY INFORMATION: On August 29, 1995, the Department published the final results of its administrative review of the countervailing duty order on certain iron-metal castings from India for the period January 1, 1991 through December 31, 1991. See Final Results of Countervailing Duty Administrative Review: Certain Iron-Metal Castings from India, 60 FR 44,843 (1991 Iron-Metal Castings). Subsequently, respondents challenged the final results before the CIT. The primary issue involved the calculation of the program rates for the subsidies provided under section 80HHC of India's Income Tax Act.

Under section 80HHC of India's Income Tax Act, exporters of iron-metal castings are eligible to claim tax exemptions based on their export profits. In 1991 Iron-Metal Castings, the Department calculated these subsidies without adjusting for other subsidies received under India's International Price Reimbursement Scheme (IPRS) and India's Cash Compensatory Support Scheme (CCS). In Kajaria Iron Castings Pvt. Ltd. v. United States, Slip Op. 00-147 (CIT Nov. 9, 2000), the court remanded the final results of the 1991 administrative review and directed the Department to recalculate these subsidies by subtracting IPRS rebates and CCS rebates from taxable income before determining the benefit under section 80HHC. The Department's subsequent remand determination reflected the Court's instructions and was affirmed in Kajaria Iron Castings Pvt. v. United States, Slip Op. 01-5 (CIT Jan. 24, 2001).

Final Results of Review

We recalculated the company-specific and all-other subsidy rates for the period January 1, 1991, through December 31, 1991. The amended final countervailing duty rates are as follows:

Manufacturer/exporter | Revised rates
Calcutta Ferrous | 0.93
Carnation Enterprise Pvt. Ltd | 0.66
Commex | ¹ 0.44
Crescent Foundry Co. Pvt. Ltd | 1.18
Dinesh | 0.00
Kajaria Castings Ltd. | 2.56
Kejriwal Iron & Steel Works | ¹ 0.40
Nandikeshwari | 2.56
R.B. Agarwalla & Co. | 1.73
R.S.I | 4.19
Serampore Industries Pvt. Ltd | 0.78
Super Castings (India) | 23.00
Tiruptati | 3.68
UMA Iron & Steel Co | 1.84
All-other Rate | 2.56
¹ de minimis.

The Department has been enjoined from issuing any liquidation instructions to the U.S. Customs Service (Customs) until the conclusion of litigation of this case. Litigation has been completed and, therefore, the Department will instruct Customs to assess countervailing duties on all appropriate entries. For the companies with de minimis rates, the Department will instruct Customs to liquidate without regard to countervailing duties. The Department will issue liquidation instructions directly to Customs.

This amendment to the final results of countervailing duty administrative review notice is in accordance with section 705(d) of the Tariff Act of 1930, as amended, (19 USC 1671d(d)) and section 351.210(c) of the Department's regulations. Effective January 20, 2001, Bernard T. Carreau is fulfilling the duties of the Assistant Secretary for Import Administration.

Dated: May 3, 2001.
Bernard T. Carreau,
Deputy Assistant Secretary, Import Administration.

[FR Doc. 01-11939 Filed 5-10-01; 8:45 am]

BILLING CODE 3510-DS-P